DEPARTMENT OF ENERGY

Federal Energy Regulatory Commission

[Docket No. PF05-8-000]

Creole Trail LNG, L.P. and Cheniere Creole Trail Pipeline Company; Notice of Intent to Prepare an Environmental Impact Statement for the Proposed Creole Trail LNG and Pipeline Project, Request For Comments on Environmental Issues, and Notice of Public Scoping Meetings

April 4, 2005.

The staff of the Federal Energy Regulatory Commission (FERC or Commission) will prepare an environmental impact statement (EIS) that will discuss the environmental impacts of the Creole Trail LNG and Pipeline Project (Creole Trail Project) involving construction and operation of facilities by Creole Trail LNG, L.P. and Cheniere Creole Trail Pipeline Company (collectively, Creole Trail). The proposed facilities would be located in southwestern Louisiana and consist of a liquefied natural gas (LNG) import terminal, an approximately 118-mile-long dual send-out pipeline with an approximately 47-mile-long single pipeline (Western Leg) and an approximately 6-mile-long single pipeline (Hackberry Lateral). The Commission will use this EIS in its decision-making process to determine whether or not the LNG terminal is in the public interest, and the pipeline is in the public convenience and necessity.

The Creole Trail Project is currently in the preliminary design stage. At this time Creole Trail has not filed an application with the FERC. For this project, the FERC staff is initiating its National Environmental Policy Act (NEPA) review prior to receiving the application. This will allow interested stakeholders to be involved early in project planning and to identify and resolve any issues before an application is filed with the FERC. The pre-filing docket number, PF05-8-000, has been established to place information filed by Creole Trail and related documents issued by the Commission into the public record.¹ Once a formal application is filed with the FERC, a new docket number will be established.

¹ To view information in the docket, follow the instructions for using the eLibrary link at the end of this notice.

This notice is being sent to residents within 0.5 mile of the proposed LNG terminal site; landowners along the pipeline route under consideration; Federal, state, and local government agencies; elected officials; environmental and public interest groups; Native American tribes; and local libraries and newspapers.

With this notice, we² are asking these and other Federal, state, and local agencies with jurisdiction and/or special expertise with respect to environmental issues to formally cooperate with us in the preparation of the EIS. These agencies may choose to participate once they have evaluated the proposal relative to their responsibilities. Agencies which would like to request cooperating status should follow the instructions for filing comments described later in this notice. We encourage government representatives to notify their constituents of this planned project and encourage them to comment on their areas of concern.

² “We,” “us,” and “our” refer to the environmental staff of the Office of Energy Projects.

Some affected landowners may be contacted by a project representative about the acquisition of an easement to construct, operate, and maintain the proposed pipeline. If so, the company should seek to negotiate a mutually acceptable agreement. In the event that the project is certificated by the Commission, that approval conveys the right of eminent domain for securing easements for the pipeline. Therefore, if easement negotiations fail to produce an agreement, the company could initiate condemnation proceedings in accordance with state law. The FERC staff has also prepared a fact sheet entitled “An Interstate Natural Gas Facility On My Land? What Do I Need To Know?” This fact sheet addresses a number of typically asked questions, including the use of eminent domain and how to participate in the Commission's proceedings. It is available for viewing on the FERC Internet Web site (http://www.ferc.gov).

Summary of the Proposed Project

The LNG terminal would be located on approximately 773 acres of a 1,463-acre tract of land in Cameron Parish, Louisiana, approximately 3.03 miles inland of the Gulf of Mexico, west of the Calcasieu Ship Channel, and northwest of Monkey Island. The LNG terminal would include two marine berths to accommodate ships with up to 250,000 cubic-meter capacity, four 160,000 cubic-meter single containment LNG storage tanks, and three banks of seven submerged combustion vaporizers (which includes two spare submerged combustion vaporizers). The terminal would provide 3.3 billion cubic feet per day (Bcf/d) of send-out capacity. Approximately 400 ships per year are anticipated to call on the terminal.

The Creole Trail Project would include two parallel and adjacent 42-inch-diameter sendout pipelines that would originate at the LNG terminal site and extend approximately 118 miles in a north-northeasterly fashion to the vicinity of Columbia Gulf Transmission Company's Rayne Compressor Station located in Acadia Parish, Louisiana. The pipelines would cross Cameron, Calcasieu, Beauregard, Allen, Jefferson Davis, and Acadia Parishes. Routing for the two natural gas sendout pipelines includes 17 potential interconnections to existing pipeline network emanating from Louisiana to Midwest, Northeast and Atlantic markets. Aboveground facilities associated with the proposed pipeline would include delivery meter stations associated with the proposed interconnects, as well as mainline valves, pig launchers, and receivers.

The proposed Creole Trail Project would also include the Creole Trail Pipeline Western Leg, an approximately 47-mile-long, 42-inch-diameter single pipeline originating from the proposed sendout pipeline south of Sulphur, Louisiana and extending across Calcasieu and Cameron Parishes to the Sabine Pass LNG, L.P., Terminal facility, and the Hackberry Lateral, an approximately 6-mile-long, 36-inch-diameter single pipeline originating from the proposed sendout pipeline in Calcasieu Lake and extending westerly where it would terminate at the Dominion Hackberry salt cavern storage facility in Cameron Parish, Louisiana.

A map depicting the proposed terminal site and the proposed pipeline routes is provided in Appendix 1.³ ⁴

³ The appendices referenced in this notice are not being printed in the Federal Register. Copies are available on the Commission's Internet Web site (http://www.ferc.gov) at the “eLibrary” link or from the Commission's Public Reference and Files Maintenance Branch at (202) 502-8371. For instructions on connecting to eLibrary refer to the last page of this notice.

⁴ Requests for detailed maps of the facilities may be made to: Patricia Outtrim, Vice President Government Relations, Creole Trail LNG, L.P., 717 Texas Ave., Suite 3100, Houston, Texas 77002; telephone No. (713) 265-0212, (pouttrim@cheniere.com); or Lisa Tonery, King & Spalding, 1185 Avenue of the Americas, New York, NY 10036-4003; telephone No. (212) 556-2307, (ltonery@kslaw.com). Please be as specific as you can about the location(s) of your area(s) of interest.

Land Requirements

The LNG terminal would be located on approximately 773 acres of a 1,463-acre tract of land in Cameron Parish, Louisiana. Preliminary reconnaissance indicated that scattered wetlands are present throughout the tract. The LNG terminal would be located west of the Calcasieu Ship Channel, which is approximately 1,150 feet wide with a 400-foot-wide navigation channel. The project would require dredging to accommodate LNG tanker ships.

The proposed pipelines would largely parallel existing and proposed pipeline rights-of-way, including the proposed Cameron LNG Import Terminal pipeline, and portions of the existing Transco, Trunkline, Tennessee, Florida Gas, and Texas Gas rights-of-way. Creole Trail has indicated that the proposed construction right-of-way for the pipeline system would generally be between 100 and 150 feet in width, with additional workspace associated with stream, railroad, and highway crossings. Construction of pipe storage yards and access roads outside the pipeline construction right-of-way would result in additional surface disturbance. The proposed routing would cross several waterbodies, railroad tracks, and highways.

Non-jurisdictional facilities associated with this project have not been identified by Creole Trail.

The EIS Process

NEPA requires the Commission to take into account the environmental impacts that could result from an action whenever it considers the issuance of a Certificate of Public Convenience and Necessity, or an import authorization under Section 3 of the Natural Gas Act. NEPA also requires us to discover and address issues and concerns the public and other stakeholders may have about proposals. This process is referred to as “scoping.” The main goal of the scoping process is to focus the analysis in the EIS on the important environmental issues and reasonable alternatives. By this notice, we are requesting agencies and the public to comment on the scope of the issues to be analyzed and presented in the EIS. All scoping comments received will be considered during the preparation of the EIS. To ensure your comments are considered, please carefully follow the instructions in the public participation section of this notice.

The EIS will discuss impacts that could occur as a result of the construction and operation of the proposed project under these general headings:

• Geology and soils.

• Water resources and wetlands.

• Vegetation.

• Wildlife and aquatic resources.

• Endangered and threatened species.

• Land use.

• Cultural resources.

• Air quality and noise.

• Public safety.

Our independent analysis of the issues will be included in a draft EIS. The draft EIS will be mailed to Federal, state, and local government agencies; elected officials; environmental and public interest groups; Native American tribes; affected landowners; other interested parties; local libraries and newspapers; and the Commission's official service list for this proceeding. A 45-day comment period will be allotted for review of the draft EIS. We will consider all comments on the draft EIS and revise the document, as necessary, before issuing a final EIS. In addition, we will consider all comments on the final EIS before we make our recommendations to the Commission.

Currently Identified Environmental Issues

We have identified several issues that we think deserve attention based on a preliminary review of the planned facilities and the environmental resources present in the project area. This preliminary list of issues may be changed based on information obtained during the public participation period and on our continuing analysis:

• Water Resources and Wetlands.

○ Assessment of construction effects on water quality.

○ Review of wetland areas impacted on the terminal site and in the pipeline right-of-way and other affected areas.

○ Disturbance of sensitive and scenic streams.

• Fish, Wildlife, and Vegetation.

○ Effects on wildlife and fisheries including commercial and recreational fisheries.

○ Effects of dredging and underwater pipeline construction on oyster beds.

○ Effects of pipeline construction and operation on riparian vegetation and riparian habitats.

○ Vegetation restoration of the pipeline rights-of-way.

○ Effects on wildlife refuges and special habitats, including bird rookeries and migratory birds.

• Endangered and Threatened Species and Critical Habitat.

○ Effects on federally listed species, including the red-cockaded woodpecker.

○ Effects on essential fish habitat.

• Effects on residential areas.

• Effects on agricultural areas.

• Dredging and dredge material disposal areas.

• Ship traffic in Calcasieu Ship Channel.

• Reliability and Safety.

○ Safety and security of the terminal and pipeline.

○ LNG shipping.

Our evaluation will also include possible alternatives to the proposed project or portions of the project, and we will make recommendations on how to lessen or avoid impacts on the various resource areas of concern.

Public Participation

You can make a difference by providing us with your specific comments or concerns about the project. By becoming a commentor, your concerns will be addressed in the EIS and considered by the Commission. You should focus on the potential environmental effects of the proposal, alternatives to the proposal (including alternative locations and routes), and measures to avoid or lessen environmental impact. Creole Trail has established a preliminary pipeline route for the project; however, if minor reroutes or variations are required to avoid or minimize impacts to certain features on your property, this is your opportunity to assist us and Creole Trail in identifying your specific areas of concern. The more specific your comments, the more useful they will be. Please carefully follow these instructions to ensure that your comments are received and properly recorded:

• Send an original and two copies of your letter to: Magalie R. Salas, Secretary, Federal Energy Regulatory Commission, 888 First St., NE., Room 1A, Washington, DC 20426;

• Label one copy of your comments for the attention of Gas Branch 2; and

• Reference Docket No. PF05-8-000 on the original and both copies.

• Mail your comments so that they will be received in Washington DC on or before May 4, 2005.

Please note that we are continuing to experience delays in mail deliveries from the U.S. Postal Service. As a result, we will include all comments that we receive within a reasonable time frame in our environmental analysis of this project. However, the Commission encourages electronic filing of any comments or interventions or protests to this proceeding. See 18 CFR 385.2001(a)(1)(iii) and the instructions on the Commission's Web site at http://www.ferc.gov under the “eFiling” link and the link to the User's Guide. Before you can file comments you will need to create a free account which can be created by clicking on “Login to File” and then “New User Account.”

If you do not want to send comments at this time but still want to remain on our mailing list, please return the Mailing List Retention Form included in Appendix 2.

In addition, the FERC staff will conduct three scoping meetings to provide another opportunity to offer comments on the proposed project. Interested groups and individuals are encouraged to attend the meetings and to present comments on the environmental issues they believe should be addressed in the EIS. A transcript of the meetings will be generated so that your comments will be accurately recorded. All meetings will begin at 7 p.m. (CDT), and are scheduled as follows:

Date | Location
Monday, April 25, 2005 | Northwest Community Center, 501 Samuel Drive, Eunice, LA 70535, (337) 457-6573.
Tuesday, April 26, 2005 | Holiday Inn Express, 102 Mallard Street, Sulphur, LA 70665, (337) 625-2500.
Wednesday, April 27, 2005 | Cameron Multi-Purpose Building, 122 Smith Circle, Cameron, LA 70631, (337) 775-5081.

Availability of Additional Information

Additional information about the project is available from the Commission's Office of External Affairs, at 1-866-208 FERC (3372) or on the FERC Internet Web site (http://www.ferc.gov). Using the “eLibrary” link, select “General Search” from the eLibrary menu, enter the selected date range and “Docket Number” (i.e., PF05-8-000), and follow the instructions. Searches may also be done using the phrase “Creole Trail” in the “Text Search” field. For assistance with access to eLibrary, the helpline can be reached at 1-866-208-3676, TTY (202) 502-8659, or at FERCOnlineSupport@ferc.gov. The eLibrary link on the FERC Internet Web site also provides access to the texts of formal documents issued by the Commission, such as orders, notices, and rulemakings.

In addition, the Commission now offers a free service called eSubscription that allows you to keep track of all formal issuances and submittals in specific dockets. This can reduce the amount of time you spend researching proceedings by automatically providing you with notification of these filings, document summaries, and direct links to the documents. To register for this service, go to http://www.ferc.gov/esubscribenow.htm.

Further, public meetings or site visits will be posted on the Commission's calendar located at http://www.ferc.gov/EventCalendar/EventsList.aspx along with other related information.

Finally, Creole Trail has established an Internet Web site for its project at http://www.creoletrail.com. The Web site includes additional information on the project including Creole Trail contact information.

Magalie R. Salas,
Secretary.

[FR Doc. E5-1642 Filed 4-8-05; 8:45 am]

BILLING CODE 6717-01-P